DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. The Bureau of Labor Statistics (BLS) is soliciting comments concerning the proposed revision of the Annual Refiling Survey (ARS) forms and a change in its publication practices in the Quarterly Census of Employment and Wages (QCEW) program.

A copy of the proposed information collection request (ICR) can be obtained by contacting the individual listed below in the ADDRESSES section of this notice.

DATES: Written comments must be submitted to the office listed in the ADDRESSES section below on or before June 14, 2004.

ADDRESSES: Send comments to Amy A. Hobby, BLS Clearance Officer, Division of Management Systems, Bureau of Labor Statistics, Room 3255, 2 Massachusetts Avenue, NE., Washington, DC 20212, telephone number 202-691-7628 (this is not a toll free number).

FOR FURTHER INFORMATION CONTACT: Amy A. Hobby, BLS Clearance Officer, telephone number 202-691-7628. (See ADDRESSES section).

SUPPLEMENTARY INFORMATION:

I. Background

The ARS forms are used to verify and update existing 2002 North American Industry Classification System (NAICS) codes. They also are used to update employers' business names and addresses and other geographical information. In addition, the forms provide a source of multiple worksite information, which is critical to the development of the BLS Business Establishment List (BEL). The BEL serves as a sampling frame and a benchmark for many BLS surveys.

II. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected;

• Minimize the burden of the collection of information on those who are to respond, including through the use of appropriate automated, electronic, mechanical, or other technological collection techniques or other forms of information technology, e.g., permitting electronic submissions of responses; and

• Evaluate the change in the agency's publication practices in the QCEW program.

III. Current Action

The QCEW program publishes employment and wage data for groupings defined by industry and geography. The ARS is used to verify the industry code and location of businesses. For each grouping, there are three data items produced and published: the number of establishments, employment, and wages. The proposed publication change only applies to the number of establishments data item.

The BLS proposes to publish the number of establishments for every industry by geography grouping, regardless of the size of the grouping. Currently, the number, or frequency, of establishments may be suppressed from publication when a grouping is very small—usually one, two, or three establishments. This prevents the possible indirect disclosure of respondent identifying information through the use of information from another source. However, Statistical Policy Working Paper 22 from the Office of Management and Budget (OMB), states, “Frequency data for establishments are generally not considered sensitive because so much information about an establishment is publicly available.” Further, because the QCEW is constructed to cover virtually all non-agricultural employers and employment, the BLS cannot protect that an establishment exists and is included in the QCEW file. Therefore, the BLS does not consider publishing the number of establishments in an industry-by-geography grouping, even if one, to be a disclosure of confidential information even though it may be possible to infer the identity of a business establishment in that grouping. All other information on establishments maintained by the BLS in its QCEW file is confidential and will be used by the BLS for exclusively statistical purposes. The BLS believes that by following allowable OMB disclosure policies, the usefulness of one of the nation's most comprehensive economic statistical data sources will be vastly improved.

The BLS uses the Annual Refiling Survey (ARS) forms to gather industrial and geographical data on business establishments. The revised ARS forms are designed to verify and update NAICS codes, geographical information, and multiple worksite information.

Type of Review: Revision of a currently approved collection.

Agency: Bureau of Labor Statistics.

Title: Annual Refiling Survey.

OMB Number: 1220-0032.

Affected Public: Individuals or households; business or other for-profit; not-for-profit institutions; farms; Federal government; State, local, or tribal government.

Frequency: Annually.

Form | Total respondents | Frequency | Total responses | Average time per response (hours) | Estimated total burden hours
3023-NVS | 2,286,757 | Once | 2,286,757 | .083 | 189,800
3023-NVM | 35,951 | Once | 35,951 | .25 | 8,988
3023-NCA | 165,397 | Once | 165,397 | .167 | 27,621
Totals | 2,488,105 |  | 2,488,105 |  | 226,409

Total Burden Cost (Capital/Startup): $0.

Total Burden Cost (Operating/Maintenance): $0.

Comments submitted in response to this notice will be summarized and/or included in the request for Office of Management and Budget approval of the information collection request; they also will become a matter of public record.

Signed in Washington, DC, this 5th day of April, 2004.
Cathy Kazanowski,
Chief, Division of Management Systems, Bureau of Labor Statistics.

[FR Doc. 04-8303 Filed 4-12-04; 8:45 am]

BILLING CODE 4510-24-P